DEPARTMENT OF AGRICULTURE

Notice of Intent To Certify Virginia Department of Agriculture and Consumer Services (Virginia); Request for Comments

AGENCY: Agricultural Marketing Service, USDA.

ACTION: Notice and Request for Comments.

SUMMARY: AMS is asking for comments on the quality of services provided by this Delegated State: Virginia Department of Agriculture and Consumer Services (Virginia). The realignment of offices within the U.S. Department of Agriculture authorized by the Secretary's Memorandum dated November 14, 2017, eliminates the Grain Inspection, Packers and Stockyard Administration (GIPSA) as a standalone agency. The grain inspection activities formerly part of GIPSA are now organized under AMS.

DATES: Comments must be received by May 7, 2018.

ADDRESSES: Submit comments concerning this Notice using any of the following methods:

• Submit Comments Using the Internet: Go to Regulations.gov (http://www.regulations.gov). Instructions for submitting and reading comments are detailed on the site.

• Mail, Courier or Hand Delivery: Mark Wooden, Compliance Officer, USDA, AMS, FGIS, QACD, 10383 North Ambassador Drive, Kansas City, MO 64153.

• Fax: Mark Wooden, 816-872-1257.

• Email: Mark.J.Wooden@ams.usda.gov or FGISQACD@ams.usda.gov.

Read Comments: All comments are available for public inspection at the office above during regular business hours (7 CFR 1.27(c)).

FOR FURTHER INFORMATION CONTACT: Mark Wooden, 816-659-8413, Mark.J.Wooden@ams.usda.gov or FGISQACD@ams.usda.gov.

SUPPLEMENTARY INFORMATION: Section 7(e)(2)(A) of the United States Grain Standards Act (USGSA) designates that if the Secretary determines, pursuant to paragraph (3) of Section 7(e), that a State agency is qualified to perform official inspection, meets the criteria in subsection (f)(1)(A) of Section 7, and (i) was performing official inspection at an export port location under this chapter on July 1, 1976, or (ii)(I) performed official inspection at an export port location at any time prior to July 1, 1976, (II) was designated under subsection (f) of Section 7 on December 22, 1982, to perform official inspections at locations other than export port locations, and (III) operates in a State from which total annual exports do not exceed, as determined by the Secretary, five per centum of the total amount of grain exported from the United States annually, the Secretary may delegate authority to the State agency to perform all or specified functions involving official inspection (other than appeal inspection) at export port locations within the State, including export port locations which may in the future be established, subject to such rules, regulations, instructions, and oversight as the Secretary may prescribe, and any such official inspection shall continue to be the direct responsibility of the Secretary. Any such delegation may be revoked by the Secretary, at the discretion of the Secretary, at any time upon notice to the State agency without opportunity for a hearing. Under Section 7(e) of the USGSA, every five years, the Secretary shall certify that each State agency with a delegation of authority is meeting the criteria described in subsection (f)(1)(A). Delegations shall be renewed according to the criteria and procedures set forth in Section 7(e)(2)(B) of the USGSA.

Area of Delegation

Virginia

Pursuant to Section 7(e)(2) of the USGSA, the following export port locations in the State of Virginia are assigned to this State agency.

In Virginia:

All export port locations in the State of Virginia.

Request for Comments

We are publishing this Notice to provide interested persons the opportunity to comment on the quality of services provided by the State of Virginia. We are particularly interested in receiving comments citing reasons and pertinent data supporting or objecting to the delegation of the applicant. Submit all comments to Mark Wooden at the above address or at http://www.regulations.gov.

We consider comments and other available information when determining certification.

Authority: 7 U.S.C. 71-87k.

Dated: April 2, 2018.
Greg Ibach,
Under Secretary, Marketing and Regulatory Programs.

[FR Doc. 2018-06969 Filed 4-4-18; 8:45 am]

BILLING CODE 3410-02-P